DEPARTMENT OF COMMERCE

National Oceanic and Atmospheric Administration

[I.D. 092206A]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species (CPS) advisory bodies will hold meetings, which are open to the public, on October 17-19, 2006. The primary purpose of the meetings is to review the current Pacific sardine Stock Assessment and draft terms of reference for the CPS stock assessment review process.

DATES: The meetings will be held on October 17, 2006 through October 19, 2006. See SUPPLEMENTARY INFORMATION for specific dates and times.

ADDRESSES: All meetings will be held in the Large Conference Room at the office of the Pacific Fishery Management Council, 7700 NE Ambassador Place, Suite 101, Portland, OR 97220-1384; telephone: (503) 820-2280.

FOR FURTHER INFORMATION CONTACT: Mr. Mike Burner, Pacific Fishery Management Council; telephone: (503) 820-2280.

SUPPLEMENTARY INFORMATION: The Coastal Pelagic Species Management Team (CPSMT) and the Scientific and Statistical Committee's (SSC) CPS Subcommittee will meet in a joint session on Tuesday, October 17, 2006, from 8 a.m. until business for the day is completed and again on Wednesday, October 18, 2006 until noon. The CPSMT will hold a work session on Wednesday, October 18, 2006, from 1 p.m. until business for the day is completed. The Coastal Pelagic Species Advisory Subpanel (CPSAS) will meet Thursday, October 19, 2006, from 8 a.m. until business for the day is completed.

The CPSMT, the SSC CPS Subcommittee, and the CPSAS will review the current Pacific sardine stock assessment, the terms of reference for CPS stock assessment reviews, and recent research on market squid. The CPSMT and the CPSAS will also develop harvest guideline and management measure recommendations for the 2007 Pacific sardine fishery. The CPSMT and CPSAS will develop recommendations for Council consideration at the November 12-17, 2006, meeting in Del Mar, CA, and address other issues relating to CPS management, including marine protected areas and research and data needs. No management actions will be decided by the CPSMT, the SSC CPS Subcommittee, or the CPSAS.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Dated: September 25, 2006.
Tracey L. Thompson,
Acting Director, Office of Sustainable Fisheries, National Marine Fisheries Service.

[FR Doc. E6-15917 Filed 9-27-06; 8:45 am]

BILLING CODE 3510-22-S